POSTAL REGULATORY COMMISSION

[Docket No. N2011-1; Order No. 778]

Postal Service Initiative on Retail Postal Locations

AGENCY: Postal Regulatory Commission.

ACTION: Notice; correction.

SUMMARY: The Postal Regulatory Commission published a notice in the Federal Register of August 4, 2011 concerning a Postal Service request for an advisory opinion on an initiative involving examination of the continuation of service at postal retail locations. The procedural schedule included an incorrect date for the close of discovery on the Postal Service's direct case.

FOR FURTHER INFORMATION CONTACT: Stephen L. Sharfman, General Counsel, 202-789-6820 or stephen.sharfman@prc.gov.

Correction

In the Federal Register of August 4, 2011, FR Doc. 2011-19725, on page 47276, in the Procedural Schedule table appearing after the signature block, correct the second line in the left-hand column to read:

August 30, 2011 | Close of discovery on Postal Service direct case.

Dated: August 4, 2011.
Ruth Ann Abrams,
Acting Secretary.

[FR Doc. 2011-20196 Filed 8-9-11; 8:45 am]

BILLING CODE 7710-FW-P